NUCLEAR REGULATORY COMMISSION

[Docket Nos.: 50-250, 50-251, 50-335, and 50-389; NRC-2012-0210; License Nos.: DPR-31, DPR-41, DPR-67, and NPF-16]

Florida Power & Light Company; Receipt of Request for Action

Notice is hereby given that by petition dated April 23, 2012, Mr. Thomas King (petitioner) has requested that the U.S. Nuclear Regulatory Commission (NRC) take action with regard to St. Lucie Plant, Units 1 and 2, and Turkey Point Nuclear Generating, Units 3 and 4. The petitioner requested that the NRC take immediate action to shut down or prohibit restart of the St. Lucie Plant, Units 1 and 2, and Turkey Point Nuclear Generating, Units 3 and 4, “until a criminal investigation of the AMES Group LLC is complete and everything has been verified safe.”

The request is being treated pursuant to Section 2.206 of Title 10 of the Code of Federal Regulations (10 CFR) of the Commission's regulations. The request has been referred to the Director of the Office of Nuclear Reactor Regulation. As provided by Section 2.206, appropriate action will be taken on this petition within a reasonable time. The petition review board (PRB) held a teleconference with the petitioner on July 9, 2012, during which the petitioner was given the opportunity to supplement the original request with additional information in advance of the PRB's decision to accept or deny the petition. The PRB denied the petitioner's request for immediate action because the NRC staff did not have sufficient information to support a shut-down or prohibit the restart of the St. Lucie and Turkey Point plants. The NRC Region II Office is conducting an examination of the petitioner's concerns. The PRB accepted the petition for review but it will be held in abeyance pending the outcome of Region II's examination. A copy of the petition is available for inspection at the Commission's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209 or 301-415-4737, or by email to PDR.Resource@nrc.gov.

Dated at Rockville, Maryland, this 29th day of August 2012.
For the Nuclear Regulatory Commission.
Eric J. Leeds,
Director, Office of Nuclear Reactor Regulation.

[FR Doc. 2012-22309 Filed 9-10-12; 8:45 am]

BILLING CODE 7590-01-P